DEPARTMENT OF ENERGY

Federal Energy Regulatory Commission

Combined Notice of Filings

Take notice that the Commission has received the following Natural Gas Pipeline Rate and Refund Report filings:

Filings Instituting Proceedings

Docket Numbers: PR26-35-000.

Applicants: Black Hills/Kansas Gas Utility Company, LLC.

Description: § 284.123 Rate Filing: BHKG Revised SOC and Statement of Rates to be effective 1/1/2026.

Filed Date: 2/2/26.

Accession Number: 20260202-5064.

Comment Date: 5 p.m. ET 2/23/26.

Docket Numbers: RP26-458-000.

Applicants: Gulf South Pipeline Company, LLC.

Description: § 4(d) Rate Filing: Cap Rel Neg Rate Agmt (Osaka 46428 to Sequent 60239) to be effective 2/1/2026.

Filed Date: 2/2/26.

Accession Number: 20260202-5200.

Comment Date: 5 p.m. ET 2/17/26.

Docket Numbers: RP26-459-000.

Applicants: Ruby Pipeline, L.L.C.

Description: § 4(d) Rate Filing: RP 2026-02-02 Non-Conforming Agreement Amendment to be effective 2/3/2026.

Filed Date: 2/2/26.

Accession Number: 20260202-5201.

Comment Date: 5 p.m. ET 2/17/26.

Docket Numbers: RP26-460-000.

Applicants: Gulf South Pipeline Company, LLC.

Description: § 4(d) Rate Filing: Cap Rel Neg Rate Agmt (Entergy LA 48769 to ARM 60212) to be effective 2/1/2026.

Filed Date: 2/2/26.

Accession Number: 20260202-5206.

Comment Date: 5 p.m. ET 2/17/26.

Docket Numbers: RP26-461-000.

Applicants: ExxonMobil Oil Corporation, Pioneer Natural Resources USA, Inc.

Description: Joint Petition for Limited Waiver of Capacity Release Regulations, et al. of ExxonMobil Oil Corporation, et al.

Filed Date: 2/2/26.

Accession Number: 20260202-5223.

Comment Date: 5 p.m. ET 2/17/26.

Docket Numbers: RP26-462-000.

Applicants: Great Lakes Gas Transmission Limited Partnership.

Description: § 4(d) Rate Filing: Negotiated Rate Agreements Castleton 22956 & 22983, Eff 3.1.26 to be effective 3/1/2026.

Filed Date: 2/3/26.

Accession Number: 20260203-5029.

Comment Date: 5 p.m. ET 2/17/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR25-52-003.

Applicants: Consumers Energy Company.

Description: Compliance Filing and Updated Statement of Operating Conditions to be effective 6/1/2025.

Filed Date: 2/2/26.

Accession Number: 20260202-5175.

Comment Date: 5 p.m. ET 2/23/26.

§ 284.123(g) Protest: 5 p.m. ET 4/03/26.

Docket Numbers: RP26-441-000.

Applicants: Transcontinental Gas Pipe Line Company, LLC.

Description: Report Filing: Supplement to Rate Schedule FDLS-Rockaway Lateral Surcharge to be effective N/A.

Filed Date: 2/2/26.

Accession Number: 20260202-5169.

Comment Date: 5 p.m. ET 2/17/26.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 3, 2026.
Carlos D. Clay,
Deputy Secretary.

[FR Doc. 2026-02328 Filed 2-5-26; 8:45 am]

BILLING CODE 6717-01-P